DEPARTMENT OF COMMERCE

International Trade Administration

A-821-801

Solid Urea From Russia: Extension of Time Limit for Preliminary Results of Antidumping Duty New-Shipper Review

AGENCY: Import Administration, International Trade Administration, Department of Commerce.

EFFECTIVE DATE: August 24, 2007.

FOR FURTHER INFORMATION CONTACT: Thomas Schauer or Minoo Hatten, AD/CVD Operations Office 5, Import Administration, International Trade Administration, U.S. Department of Commerce, 14th Street and Constitution Avenue, NW, Washington, DC 20230; telephone: (202) 482-0410 and (202) 482-1690, respectively.

SUPPLEMENTARY INFORMATION:

Background

At the request of EuroChem, a Russian producer and exporter of solid urea from Russia, the Department of Commerce (the Department) initiated a new-shipper review of the antidumping duty order on solid urea from Russia for the period July 1, 2006, through December 31, 2006. See Solid Urea from Russia: Notice of Initiation of Antidumping Duty New-Shipper Review, 72 FR 9930 (March 6, 2007). The preliminary results of this new-shipper review are currently due no later than August 26, 2007.

Extension of Time Limit for Preliminary Results of the New-Shipper Review

Section 751(a)(2)(B)(iv) of the Tariff Act of 1930, as amended (the Act), requires the Department to issue the preliminary results of a new-shipper review of an antidumping duty order within 180 days after the date on which the review is initiated. The Act provides further that, if the case is extraordinarily complicated, the Department may extend the 180-day period to 300 days.

We determine that this new-shipper review is extraordinarily complicated and that it is not possible to complete the preliminary results by the current deadline of August 26, 2007. Specifically, we have received a complex sales-below-cost allegation and an allegation of a major input provided at prices not reflective of market conditions which requires further consideration.

Therefore, in accordance with section 751(a)(2)(B)(iv) of the Act and 19 CFR 351.214(i)(2), we are extending the time period for issuing the preliminary results of this review by 113 days to December 17, 2007. The final results of this new-shipper review continue to be due 90 days after the date of issuance of the preliminary results of the new-shipper review.

This notice is published in accordance with section 751(a)(2)(B)(iv) of the Act and 777(i)(1) of the Act.

Dated: August 21, 2007.
Gary Taverman,
Acting Deputy Assistant Secretary for Import Administration.

[FR Doc. E7-16810 Filed 8-23-07; 8:45 am]

BILLING CODE 3510-DS-S